DEPARTMENT OF THE INTERIOR

National Park Service

Notice of Public Meetings for the National Park Service (NPS) Alaska Region's Subsistence Resource Commission (SRC) Program

AGENCY: National Park Service, Interior.

ACTION: Notice of public meetings for the National Park Service (NPS) Alaska Region's Subsistence Resource Commission (SRC) program.

SUMMARY: The Lake Clark National Park SRC, Aniakchak National Monument SRC and Wrangell-St. Elias SRC plan to meet to develop and continue work on National Park Service (NPS) subsistence hunting program recommendations and other related subsistence management issues. The NPS SRC program is authorized under Title VIII, Section 808 of the Alaska National Interest Lands Conservation Act, Public Law 96-487, to operate in accordance with the provisions of the Federal Advisory Committee Act.

Public Availability of Comments: The proposed meetings are open to the public and will have time allocated for public testimony. The public is welcome to present written or oral comments to the SRC. The SRC meetings will be recorded and meeting minutes will be available upon request from the park superintendent in approximately six weeks. Before including your address, telephone number, e-mail address, or other personal identifying information in your written or oral comments, you should be aware that your entire comment—including your personal identifying information—may be made publicly available at any time. While you can ask us in your comment to withhold your personal identifying information from public review, we cannot guarantee that we will be able to do so.

Lake Clark National Park SRC Meeting Date and Location: The Lake Clark National Park SRC meeting will be held on Tuesday, September 14, 2010, from 1:30 p.m. to 5 p.m. at the Iliamna Village Council Office in Iliamna, AK.

For Further Information on the Lake Clark National Park SRC Meeting Contact: Joel Hard, Superintendent, at (907) 644-3627 and Michelle Ravenmoon, Subsistence Manager, (907) 781-2135, Lake Clark National Park and Preserve, 1 Park Place, Port Alsworth, AK 99753, or Clarence Summers, Subsistence Manager, NPS Alaska Regional Office, at (907) 644-3603.

Aniakchak National Monument SRC Meeting Date and Location: The Aniakchak National Monument SRC meeting will be held on Monday, September 20, 2010, from 1 p.m. to 5 p.m. at the Chignik Lake Subsistence Building, in Chignik Lake, AK.

For Further Information on the Aniakchak National Monument Meeting Contact: Ralph Moore, Superintendent, at (907) 246-3305 and Mary McBurney, Subsistence Manager, (907) 235-7891, Aniakchak National Monument and Preserve, P.O. Box 7, King Salmon, AK 99613, or Clarence Summers, Subsistence Manager, NPS Alaska Regional Office, at (907) 644-3603.

Wrangell-St-Elias National Park SRC Meeting Date and Location: The Wrangell-St. Elias National Park SRC meeting will be held on October 6, 2010, from 1 p.m. to 7 p.m. The meeting is scheduled to reconvene on Thursday, October 7, 2010, from 9 a.m. to 5 p.m. or until business is completed. This meeting will be held at Fast Eddy's Motel and Restaurant located at Mile 1313 on the Alaska Highway in Tok, AK.

For Further Information on the Wrangell-St-Elias National Park SRC Meeting Contact: Meg Jensen, Superintendent, at (907) 822-5234, and Barbara Cellarius, Subsistence Manager, (907) 822-7236, Wrangell-St. Elias National Park and Preserve, P.O. Box 439, Copper Center, AK 99753, or Clarence Summers, Subsistence Manager, NPS Alaska Regional Office, at (907) 644-3603.

These meetings may end early if all business is completed. If any meeting date or location is changed due to inclement weather or local circumstances, the park superintendent will provide public notice.

Proposed SRC Meeting Agenda

The proposed meeting agenda for each meeting includes the following:

1. Call to order.

2. SRC Roll Call and Confirmation of Quorum.

3. SRC Chair and Superintendent's Welcome and Introductions.

4. Administrative Announcements.

5. Review and Approve Agenda.

6. Approval of Minutes from Last SRC Meeting.

7. SRC Member Reports.

8. Public and Other Agency Reports.

9. Old Business.

a. Subsistence Uses of Horns, Antlers, Bones and Plants EA Update.

b. Ranger Report—Update on NPS 36 CFR Regulatory Changes.

c. Status Report—Caribou Herd Management/Planning.

d. Access Issues Report (Off-Highway Vehicle Use/Studies).

10. New Business.

a. Subsistence Manager Update.

1. Federal Subsistence Board—Fish and Wildlife Update.

2. Federal Subsistence Board Program Review Update.

3. Alaska Board of Game Update.

4. Subsistence Projects.

b. Resource Management Program Update.

c. SRC Chairs' Conference Update.

11. Public and other Agency Comments.

12. SRC Work/Training Session.

13. Set Time and Place for next SRC Meeting.

14. Adjournment.

Sue E. Masica,
Regional Director, Alaska.

[FR Doc. 2010-20356 Filed 8-17-10; 8:45 am]

BILLING CODE 4312-HC-P